DEPARTMENT OF HEALTH AND HUMAN SERVICES

Centers for Disease Control and Prevention

[Docket No. CDC-2023-0007]

Advisory Committee on Immunization Practices; Amended Notice of Meeting

AGENCY: Centers for Disease Control and Prevention, Department of Health and Human Services (HHS).

ACTION: Notice of meeting and request for comment.

SUMMARY: The Centers for Disease Control and Prevention (CDC) announces an amendment to the following meeting of the Advisory Committee on Immunization Practices (ACIP). This meeting was open to the public.

FOR FURTHER INFORMATION CONTACT: Stephanie Thomas, ACIP Committee Management Specialist, Centers for Disease Control and Prevention, National Center for Immunization and Respiratory Diseases, 1600 Clifton Road NE, Mailstop H24-8, Atlanta, Georgia 30329-4027; Telephone: 404-639-8367; Email: ACIP@cdc.gov.

SUPPLEMENTARY INFORMATION: Notice is hereby given of a change in the meeting of the Advisory Committee on Immunization Practices (ACIP); February 22, 2023, 8:00 a.m. to 5:15 p.m., EST, February 23, 2023, 8:00 a.m. to 5:00 p.m., EST, and February 24, 2023, 8:00 a.m. to 1:00 p.m., EST (times subject to change, see the ACIP website for updates: http://www.cdc.gov/vaccines/acip/index.html), in the original Federal Register notice.

Notice of the virtual meeting was published in the Federal Register on Monday, January 30, 2023, Volume 88, Number 19, pages 5883-5884.

Notice of the virtual meeting is being amended to update the matters to be considered, which should read as follows:

Matters To Be Considered: The agenda will include discussions on mpox vaccines, influenza vaccines, pneumococcal vaccine, varicella vaccines, meningococcal vaccines, Polio vaccine, respiratory syncytial virus vaccine pediatric/maternal, respiratory syncytial virus vaccine adult, dengue vaccines, Chikungunya vaccine, and COVID-19 vaccines. A recommendation vote on mpox vaccine is scheduled. For more information on the meeting agenda visit https://www.cdc.gov/vaccines/acip/meetings/meetings-info.html.

Authority: 5 U.S.C. 1001 et. seq.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-05296 Filed 3-14-23; 8:45 am]

BILLING CODE 4163-18-P